NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: March 24-25, 2022; 11:00 a.m.-4:00 p.m.

Place:

National Science Foundation, 2415 Eisenhower Avenue, Alexandria, Virginia 22314 | Virtual.

Registration for the virtual meeting will be available two weeks prior to the meeting date. Final agenda and registration link will be located on the AC's website at: https://www.nsf.gov/geo/opp/advisory.jsp.

Type of Meeting: Open.

Contact Person: Beverly Walker, National Science Foundation, 2415 Eisenhower Avenue, Alexandria, Virginia 22314; Telephone: (703) 292-2614.

Minutes: May be obtained from the contact person listed above.

Purpose of Meeting: To provide advice and recommendations to the National Science Foundation concerning support for polar research, education, infrastructure and logistics, and related activities.

Agenda

March 24, 2022; 11:00 a.m.-4:00 p.m. (Virtual)

• Upcoming field seasons and COVID-19

• Advisory Committee Liaison Updates

• Subcommittee on Diversity, Equity, and Inclusion

• Antarctic Research Vessel Updates

• NSF Geoscience Directorate Activities Updates

March 25, 2022; 11:00 a.m.-4:00 p.m. (Virtual)

• Polar Partnerships

• Meeting with the NSF Director & Chief Operating Officer

• NASEM Mid-Term Report

• South Pole Station

• Russian Science Collaborations

Dated: February 22, 2022.
Crystal Robinson,
Committee Management Officer.

[FR Doc. 2022-04100 Filed 2-25-22; 8:45 am]

BILLING CODE 7555-01-P